DEPARTMENT OF JUSTICE

Bureau of Justice Statistics

[OMB Number 1121-0064]

Agency Information Collection Activities; Proposed eCollection eComments Requested; Extension of a Currently Approved Collection: Annual Parole Survey, Annual Probation Survey

AGENCY: Bureau of Justice Statistics, Department of Justice.

ACTION: 60-Day notice.

SUMMARY: The Department of Justice (DOJ), Office of Justice Programs, Bureau of Justice Statistics, will be submitting the following information collection request to the Office of Management and Budget (OMB) for review and approval in accordance with the Paperwork Reduction Act of 1995.

DATES: Comments are encouraged and will be accepted for 60 days until August 3, 2020.

FOR FURTHER INFORMATION CONTACT: If you have additional comments especially on the estimated public burden or associated response time, suggestions, or need a copy of the proposed information collection instrument with instructions or additional information, please contact Barbara Oudekerk, Statistician, Bureau of Justice Statistics, 810 Seventh Street NW, Washington, DC 20531 (email: Barbara.A.Oudekerk@ojp.usdoj.gov; telephone: 202-616-3904).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Extension of a currently approved collection.

2. The Title of the Form/Collection: Annual Parole Survey, Annual Probation Survey.

3. The agency form number, if any, and the applicable component of the Department sponsoring the collection: Form numbers for the questionnaire are CJ-7 Annual Parole Survey; CJ-8 Annual Probation Survey; CJ-8a Annual Probation Survey (Short Form). The applicable component within the Department of Justice is the Bureau of Justice Statistics, in the Office of Justice Programs.

4. Affected public who will be asked or required to respond, as well as a brief abstract: Primary: State departments of corrections or state probation and parole authorities. Others: The Federal Bureau of Prisons, city and county courts and probation offices for which a central reporting authority does not exist. For the CJ-7 form, the affected public consists of 52 respondents including 50 central reporters, the District of Columbia, and the Federal Bureau of Prisons responsible for keeping records on parolees. For the CJ-8 form, the affected public includes 360 reporters including 40 state respondents, the District of Columbia, the Federal Bureau of Prisons, and 318 from local authorities responsible for keeping records on probationers. For the CJ-8A form, the affected public includes 448 reporters who are all local authorities responsible for keeping records on probationers. The Annual Parole Survey and Annual Probation surveys have been used since 1977 to collect annual yearend counts and yearly movements of community corrections populations; characteristics of the community supervision population, such as gender, racial composition, ethnicity, conviction status, offense, and supervision status. In 2020, respondents will be asked a few questions about the COVID-19 pandemic and how it affected their agency.

5. An estimate of the total number of respondents and the amount of time estimated for an average respondent to respond: 860 respondents total; 412 with an averaged time of 1.75 hours for response and 448 with an average time 0.625 hours to respond. 860 respondents will be asked additional COVID-19 questions with an average time to complete of 0.33 hours.

6. An estimate of the total public burden (in hours) associated with the collection: There is an estimated 1,001 total burden hours associated with this collection, with an additional 287 hours in 2020 for the COVID-19 questions. The total burden for the 2020 data collection is 1,288.

If additional information is required contact: Melody Braswell, Department Clearance Officer, United States Department of Justice, Justice Management Division, Policy and Planning Staff, Two Constitution Square, 145 N Street NE, 3E.405A, Washington, DC 20530.

Dated: May 28, 2020.
Melody Braswell,
Department Clearance Officer for PRA, U.S. Department of Justice.

[FR Doc. 2020-11921 Filed 6-2-20; 8:45 am]

BILLING CODE P